COMMODITY FUTURES TRADING COMMISSION

Technology Advisory Committee

AGENCY: Commodity Futures Trading Commission (“CFTC”).

ACTION: Notice of meeting of Technology Advisory Committee.

SUMMARY: The CFTC announces that on March 29, 2012, the CFTC's Technology Advisory Committee (“TAC”) will hold a public meeting at the CFTC's Washington, DC headquarters, from 10 a.m. to 5 p.m. The TAC committee will focus on automated and high frequency trading, final recommendations of the subcommittee on data standardization, and market structure and technology issues relating to credit limit checks.

DATES: The meeting will be held on March 29, 2012 from 10 a.m. to 5 p.m. Members of the public who wish to submit written statements in connection with the meeting should submit them by March 28, 2012.

ADDRESSES: The meeting will take place in the Conference Center at the CFTC's headquarters, Three Lafayette Centre, 1155 21st Street NW., Washington, DC 20581. Written statements should be submitted to: Commodity Futures Trading Commission, Three Lafayette Centre, 1155 21st Street NW., Washington, DC 20581, attention: Office of the Secretary. Please use the title “Technology Advisory Committee” in any written statement you may submit. Any statements submitted in connection with the committee meeting will be made available to the public.

FOR FURTHER INFORMATION CONTACT: Laura Gardy, Commodity Futures Trading Commission, Three Lafayette Centre, 1155 21st Street NW., Washington, DC 20581, (202) 418-5354.

SUPPLEMENTARY INFORMATION: The TAC meeting will focus on three significant issues facing the futures and swaps industries as the Commission continues to finalize rules under the Dodd-Frank Act. Those issues are: (1) Automated and high frequency trading (HFT): Exchange oversight and definitions; (2) final recommendations from the Subcommittee on Data Standardization; and (3) credit limit checks: market structure and technology issues.

The meeting will be open to the public with seating on a first-come, first-served basis, and will be webcast on the CFTC's Web site, www.cftc.gov. Audio of the meeting will be available via listen-only conference call. Additionally, a video recording of the meeting will be published through a link on the CFTC's Web site. All written submissions provided to the CFTC in any form will also be published on the Web site of the CFTC.

Members of the public can listen to the meeting by telephone by calling a toll-free telephone line to connect to a live audio feed. Call-in participants should be prepared to provide their first name, last name and affiliation.

Domestic Toll Free: 1-866-844-9416.

International Toll: Under Related Documents to be posted on www.cftc.gov.

Conference ID: 7121049.

Call Leader Name: Michael Jones.

Pass Code/Pin Code: CFTC.

Authority: 5 U.S.C. app. 2 § 10(a)(2)

By the Commodity Futures Trading Commission.
Dated: March 12, 2012.
David A. Stawick,
Secretary of the Commission.

[FR Doc. 2012-6369 Filed 3-15-12; 8:45 am]

BILLING CODE P